DEPARTMENT OF JUSTICE

Antitrust Division

Notice Pursuant to the National Cooperative Research and Production Act of 1993—National Warheads and Energetics Consortium

Notice is hereby given that, on November 04, 2011, pursuant to Section 6(a) of the National Cooperative Research and Production Act of 1993, 15 U.S.C. 4301 et seq. (“the Act”), National Warheads and Energetics Consortium (“NWEC”) has filed written notifications simultaneously with the Attorney General and the Federal Trade Commission disclosing changes in its membership. The notifications were filed for the purpose of extending the Act's provisions limiting the recovery of antitrust plaintiffs to actual damages under specified circumstances. Specifically, Accurate Munition Systems, Inc., Austin, TX; Excelitas Technologies Sensors, Inc., Miamisburg, OH; Miltec Corporation, Huntsville, AL; Northrop Grumman Electronic Systems—ISR Systems Division, Azusa, CA; Northrop Grumman Systems Corporation—acting through Northrop Grumman Information Systems sector, Defense Technologies Division, Herndon, VA; Phillips Plastic Corporation, Hudson, WI; R4 Incorporated, Eatontown, NJ; Technology Service Corporation, Silver Spring, MD; and TRAX International Corporation, Las Vegas, NV, have been added as parties to this venture.

Also, Texas Tech University, Lubbock, TX; and Technikon, LLC, McClellan, CA, have withdrawn as parties to this venture.

No other changes have been made in either the membership or planned activity of the group research project. Membership in this group research project remains open, and NWEC intends to file additional written notifications disclosing all changes in membership.

On May 2, 2000, NWEC filed its original notification pursuant to Section 6(a) of the Act. The Department of Justice published a notice in the Federal Register pursuant to Section 6(b) of the Act on June 30, 2000 (65 FR 40693).

The last notification was filed with the Department on August 9, 2011. A notice was published in the Federal Register pursuant to Section 6(b) of the Act on September 23, 2011 (76 FR 16820).

Patricia A. Brink,
Director of Civil Enforcement, Antitrust Division.

[FR Doc. 2011-30308 Filed 11-23-11; 8:45 am]

BILLING CODE P